NUCLEAR REGULATORY COMMISSION

Sunshine Act Meeting

Date: Weeks of November 4, 11, 18, 25, December 2, 9, 2002.

Place: Commissioners' Conference Room, 11555 Rockville Pike, Rockville, Maryland.

Status: Public and closed.

Matters To Be Considered:

Week of November 4, 2002

There are no meetings scheduled for the Week of November 4, 2002.

Week of November 11, 2002—Tentative

Thursday, November 14, 2002

2 p.m.

Discussion of Management Issues (Closed—Ex.2)

Week of November 18, 2002—Tentative

Thursday, November 21, 2002

10 a.m.

Briefing on Proposed Rulemaking to Add New Section 10 CFR 50.69, “Risk-Informed Categorization and Treatment of Structures, Systems, and Components for Nuclear Power Reactors” (Public Meeting) (Contact: Eileen McKenna, 301-415-2189, or Timothy Reed, 301-415-1462)

This meeting will be webcast live at the Web address— www.nrc.gov.

2 p.m.

Discussion of Security Issues (Closed—Ex. 1)

Week of November 25, 2002—Tentative

There are no meetings scheduled for the Week of November 25, 2002.

Week of December 2, 2002—Tentative

Wednesday, December 4, 2002

10 a.m.

Briefing on Decommissioning Bankruptcy Issues (Closed—Ex. 4 &9)

Week of December 9, 2002—Tentative

There are no meetings scheduled for the Week of December 9, 2002.

*The schedule for Commission meetings is subject to change on short notice. To verify the status of meetings call (recording)—(301) 415-1292. Contact person for more information: R. Michelle Schroll (301) 415-1662.

Additional Information:By a vote of 5-0 on October 29, the Commission determined pursuant to u.S.C. 552b(e) and § 9.107(a) of the Commission's rules that “Discussion of Intergovernmental Issues (Closed—Ex. 9),” be held on October 31, 2002, and on less than one week's notice to the public.

The NRC Commission Meeting Schedule can be found on the Internet at: www.nrc.gov/what-we-do/policy-making/schedule.html.

This notice is distributed by mail to several hundred subscribers; if you no longer wish to receive it, or would like to be added to the distribution, please contact the Office of the Secretary, Washington, DC 20555 (301-415-1969). In addition, distribution of this meeting notice over the Internet system is available. If you are interested in receiving this Commission meeting schedule electronically, please send an electronic message to dkw@nrc.gov.

Dated: October 31, 2002.
R. Michelle Schroll,
Acting Technical Coordinator; Office of the Secretary.

[FR Doc. 02-28158 Filed 11-1-02; 10:35 am]

BILLING CODE 7590-01-M